DEPARTMENT OF ENERGY

Federal Energy Regulatory Commission

Combined Notice of Filings #1

Take notice that the Commission received the following electric corporate filings:

Docket Numbers: EC15-127-000.

Applicants: Calpine Greenleaf, Inc.

Description: Application For Approval Under Section 203 of the Federal Power Act and Request for Expedited Action of Calpine Greenleaf, Inc.

Filed Date: 4/21/15.

Accession Number: 20150421-5235.

Comments Due: 5 p.m. ET 5/12/15.

Take notice that the Commission received the following exempt wholesale generator filings:

Docket Numbers: EG15-71-000.

Applicants: Seville Solar One LLC.

Description: Notice of Self-Certification of EWG Status of Seville Solar One LLC.

Filed Date: 4/21/15.

Accession Number: 20150421-5258.

Comments Due: 5 p.m. ET 5/12/15.

Docket Numbers: EG15-72-000.

Applicants: Tallbear Seville LLC.

Description: Notice of Self-Certification of EWG Status of Tallbear Seville LLC.

Filed Date: 4/21/15.

Accession Number: 20150421-5259.

Comments Due: 5 p.m. ET 5/12/15.

Docket Numbers: EG15-73-000.

Applicants: Garrison Energy Center LLC.

Description: Notice of Self-Certification of Exempt Wholesale Generator Status of Garrison Energy Center LLC.

Filed Date: 4/22/15.

Accession Number: 20150422-5172.

Comments Due: 5 p.m. ET 5/13/15.

Take notice that the Commission received the following electric rate filings:

Docket Numbers: ER11-4505-001; ER11-4506-001.

Applicants: Backyard Farms Energy LLC, Devonshire Energy LLC.

Description: Notification of Change in Status of Backyard Farms Energy LLC and Devonshire Energy LLC.

Filed Date: 4/22/15.

Accession Number: 20150422-5161.

Comments Due: 5 p.m. ET 5/13/15.

Docket Numbers: ER15-523-002.

Applicants: Duke Energy Florida, Inc., Duke Energy Progress, Inc., Duke Energy Carolinas, LLC.

Description: Compliance filing per 35: Compliance Filing Lottery to be effective 6/1/2015.

Filed Date: 4/22/15.

Accession Number: 20150422-5241.

Comments Due: 5 p.m. ET 5/13/15.

Docket Numbers: ER15-1547-000.

Applicants: PJM Interconnection, L.L.C.

Description: Section 205(d) rate filing per 35.13(a)(2)(iii): 1st Quarter 2015 Updates to OA/RAA Membership Lists to be effective 3/31/2015.

Filed Date: 4/22/15.

Accession Number: 20150422-5242.

Comments Due: 5 p.m. ET 5/13/15.

Docket Numbers: ER15-1548-000.

Applicants: Central Maine Power Company.

Description: Tariff Withdrawal per 35.15: Notice of Cancellation of Service Agreement No. 158 (CSIA) to be effective 4/14/2015.

Filed Date: 4/22/15.

Accession Number: 20150422-5265.

Comments Due: 5 p.m. ET 5/13/15.

Take notice that the Commission received the following qualifying facility filings:

Docket Numbers: QF14-682-000.

Applicants: President and Fellows of Harvard College.

Description: Refund Report of President and Fellows of Harvard College.

Filed Date: 4/21/15.

Accession Number: 20150421-5174.

Comments Due: 5 p.m. ET 5/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2015.
Nathaniel J. Davis, Sr.,
Deputy Secretary.

[FR Doc. 2015-09808 Filed 4-27-15; 8:45 am]

BILLING CODE 6717-01-P